DEPARTMENT OF ENERGY

Federal Energy Regulatory Commission

[Project No. 1417-080]

Central Nebraska Public Power and Irrigation District; Notice of Availability of Draft Environmental Assessment

August 29, 2002.

In accordance with the National Environmental Policy Act of 1969 and the Federal Energy Regulatory Commission's (Commission) regulations, 18 CFR part 380 (Order No. 486, 52 FR 47897), the Office of Energy Projects has reviewed a Land and Shoreline Management Plan for the Kingsley Dam Hydroelectric Project, located on the North Platte and Platte Rivers, in Garden, Keith, Lincoln, Dawson, and Gosper Counties, Nebraska, and has prepared a Draft Environmental Assessment (DEA). The Kingsley Dam Project does not occupy any federal or tribal lands.

The DEA contains the staff's analysis of the potential environmental impacts of the project and concludes that approving the Land and Shoreline Management Plan, would not constitute a major federal action that would significantly affect the quality of the human environment.

A copy of the DEA is available for review at the Commission in the Public Reference Room or may be viewed on the Commission's Web site at http://www.ferc.gov using the “FERRIS” link. Enter the docket number excluding the last three digits in the docket number field to access the document. For assistance, call (202) 502-8222 or for TTY, (202) 208-1659.

Any comments should be filed within 30 days from the date of this notice and should be addressed to: Magalie R. Salas, Secretary, Federal Energy Regulatory Commission, 888 First Street, NE, Washington, DC 20426. Please affix Project No. 1417-080 to all comments. Comments may be filed electronically via the Internet in lieu of paper. The Commission strongly encourages electronic filings. See 18 CFR 385.2001(a)(1)(iii) and the instructions on the Commission's Web site (http://www.ferc.gov) under the “e-Filing” link.

For further information, contact Steve Hocking at (202) 502-8753 or steve.hocking@ferc.gov.

Linwood A. Watson, Jr.,
Deputy Secretary.

[FR Doc. 02-22661 Filed 9-5-02; 8:45 am]

BILLING CODE 6717-01-P